DEPARTMENT OF COMMERCE

National Oceanic and Atmospheric Administration

[I.D. 092104A]

Magnuson-Stevens Act Provisions; General Provisions for Domestic Fisheries; Application for Exempted Fishing Permits

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one vessel to conduct fishing operations that are otherwise restricted by the regulations governing the fisheries of the Northeastern United States. The EFP may allow for exemptions from the NE multispecies rolling closure areas and the days-at-sea (DAS) effort control program for up to 16 DAS for testing a bycatch reducing gear modification. Regulations under the Magnuson-Stevens Fishery Conservation and Management Act require publication of this notification to provide interested parties the opportunity to comment on applications for proposed EFPs.

DATES: Comments on this document must be received on or before October 12, 2004.

ADDRESSES: Comments on this notice may be submitted by e-mail. The mailbox address for providing e-mail comments is DA564@noaa.gov. Include in the subject line of the e-mail comment the following document identifier: “Comments on UNH Double Grid Gear Modification EFP Proposal.” Written comments should be sent to Patricia A. Kurkul, Regional Administrator, NMFS, Northeast Regional Office, 1 Blackburn Drive, Gloucester, MA 01930. Mark the outside of the envelope “Comments on UNH Double Grid Gear Modification EFP Proposal.” Comments may also be sent via facsimile (fax) to (978) 281-9135.

FOR FURTHER INFORMATION CONTACT: Brian Hooker, Fishery Policy Analyst, phone 978-281-9220.

SUPPLEMENTARY INFORMATION: Bart McNeel, in cooperation with the University of New Hampshire Cooperative Extension (UNH), submitted an application for an EFP on May 21, 2004. This is a continuation of a project that was begun in 2002. This EFP would authorize one commercial vessel to conduct sea trials using a double grid excluder device. The final phase of this 2-year study would be conducted by UNH with the goal of designing a trawl gear through modifications to the grid bar orientations to release sub-legal sized cod and flatfish species incidental to the catch, while retaining fish of marketable size. To accomplish this, the commercial fishing vessel would conduct trawl net gear trials using the double grid excluder device within the Gulf of Maine (GOM) and Georges Bank area from 40°30′ N. latitude to the coast of Maine, excluding the Western and Eastern U.S./Canada Areas and all groundfish year-round closure areas.

The fishing portion of this study began in March 2002. The applicant requests an exemption from 16 DAS to complete the project during the 2004 fishing year. Based upon the catch rates from eight days of fishing in the 2003 fishing year, the following catch is estimated for the 2004 fishing year: Cod 7,200 lb (3,266 kg); American plaice 992 lb (450 kg); witch flounder 688 lb (312 kg); haddock 1,376 lb (624 kg); monkfish 2,317 lb (1,051 kg); pollock 144 lb (65 kg); and white hake 400 lb (181 kg). Estimated discards are estimated to be: Cod 5,008 lb (2,272 kg); dogfish 9,008 lb (4,085 kg); American plaice 112 lb (51 kg); witch flounder 32 lb (15 kg); herring 2,608 lb (1,183 kg); lobster 32 lb (15 kg); monkfish 48 lb (22 kg); whiting 800 lb (363 kg); skate 64 lb (29 kg); and white hake 2,528 lb (1,147 kg). All undersized fish would be returned to the sea as quickly as possible. Legal-sized fish that would otherwise have to be discarded would be allowed to be retained and sold within the applicable GOM possession limits. The participating vessel would be required to report all landings in its Vessel Trip Report.

Authority: 16 U.S.C. 1801 et seq.

Dated: September 21, 2004.
Alan D. Risenhoover,
Acting Director, Office of Sustainable Fisheries, National Marine Fisheries Service.

[FR Doc. E4-2363 Filed 9-23-04; 8:45 am]

BILLING CODE 3510-22-S